DEPARTMENT OF TRANSPORTATION

Federal Railroad Administration

Notice of Petition for Waiver of Compliance

In accordance with Part 211 of Title 49 Code of Federal Regulations (CFR), notice is hereby given that the Federal Railroad Administration (FRA) received a request for a waiver of compliance with certain requirements of its safety standards. The individual petition is described below, including the party seeking relief, the regulatory provisions involved, the nature of the relief being requested, and the petitioner's arguments in favor of relief.

Docket Number: FRA-2007-27322

Applicant: Union Pacific Railroad Company, Robert M. Grimaila, Chief Safety Officer, 1400 Douglas Street, MC1180, Omaha, NE 68179-1180.

The Union Pacific Railroad Company (UP) has submitted a temporary waiver petition to support field testing of its processor-based train control systems identified as Communications Based Train Control (CBTC) and Vital-Train Management System (V-TMS), pursuant to 49 CFR 211.7 and 211.51.

An informational filing, as required under 49 CFR Part 236, Subpart H, has also been prepared and submitted in conjunction with this waiver petition, and can be found in the same docket as this waiver petition (FRA-2007-27322).

The CBTC is a locomotive-centric, non-vital system designed to be overlaid on existing methods of operation and is intended to provide an improved level of safety through the enforcement of authority limits, permanent speed restrictions, and temporary speed restrictions.

The V-TMS is a locomotive-centric, vital train control system designed to be overlaid on existing methods of operation and is intended to provide a high level of railroad safety through the enforcement of authority limits, permanent speed restrictions, and temporary speed restrictions.

UP desires to commence CBTC/V-TMS field testing on or about October 1, 2007, or as soon as practicable thereafter, contingent upon FRA's acceptance and approval of the informational filing and waiver petition.

UP is requesting regulatory relief from the following Federal regulations:

49 CFR 216.13, Special notice for repairs—locomotive.

49 CFR 217.9, Program of operational tests and inspections: recordkeeping.

49 CFR 217.11, Program of instruction on operating rules; recordkeeping; electronic recordkeeping.

49 CFR Part 218 [Subpart D], Prohibition against tampering with safety devices.

49 CFR 229.7, Prohibited acts.

49 CFR 229.135, Event recorders.

49 CFR 233.9, Annual reports.

49 CFR 235.5, Changes requiring filing of application.

49 CFR 240.127, Criteria for examining skill performance.

49 CFR 240.129, Criteria for monitoring operational performance of certified engineers.

The petitioner's arguments in favor of relief from the above regulations can be found in the waiver petition document under Docket No. FRA-2007-27322, which can be viewed using Web site listed below.

Relief is sought for development testing and demonstration purposes only. UP expects to fully comply with all FRA regulations, and requests the above relief only while conducting development testing of the CBTC/V-TMS or to occasionally operate a demonstration train. UP has an approved Railroad Safety Program Plan (RSPP), as provided for 49 CFR 236.905 (Docket No. FRA-2006-24002).

The CBTC and V-TMS are intended to be tested and demonstrated on UP's Overland Route between Chicago, IL, and O'Fallons, NE; between O'Fallons, NE, and Shawnee Jct., WY; and between Spokane, WA, and Eastport, ID. More detailed milepost locations and descriptions of methods of operation information on these routes can also be obtained from the waiver petition document using the above mentioned docket number, via the Web site listed below.

Interested parties are invited to review the waiver petition, informational filing, and associated documents at the following locations:

Web site: http://dms.dot.gov. Follow the instructions for a simple search on the DOT electronic Docket Management System. All documents in the public docket that are associated with the waiver petition are available on the Web site for inspection and copying.

DOT Docket Management Facility, 1200 New Jersey Avenue, SE., West Building Ground Floor, Room W12-140, Washington, DC, between 9 a.m. and 5 p.m., Monday through Friday, except Federal Holidays.

Any interested parties desiring to protest the granting of the application for the requested regulatory relief listed above shall specifically set forth the grounds upon which the protest is made and include a concise statement of the interest of the party in the proceeding. Additionally, one copy should be furnished to the applicant at the address listed above.

However, if a specific request for an oral hearing is accompanied by a showing that the party is unable to adequately present his or her position by written statements, an application may be set for public hearing.

All communications concerning this proceeding shall be identified by the docket number (FRA-2007-27322) and must be submitted to the Docket Clerk, DOT Docket Management Facility, 1200 New Jersey Avenue SE., West Building Ground Floor, Room W12-140, Washington, DC 20590.

Communications received within 30 days of this notice will be considered before FRA takes final action. Comments received after this period will be considered to the extent possible. All written communications concerning the above waiver request are available for examination at the above facility during regular business hours (9 a.m.-5 p.m.). All documents in the public docket are also available for inspection and copying on the Internet at the docket facility's Web site at http://dms.dot.gov.

Anyone is able to search the electronic form of all the comments received into any of our dockets by the name of the individual submitting the comment (or signing the comment on behalf of an association, business, labor union, etc.). You may review the DOT's complete Privacy Act Statement in the Federal Register published on April 11, 2000 (Volume 65, Number 70; Pages 19477-78). The Statement may also be found at http://dms.dot.gov.

Issued in Washington, DC, on August 7, 2007.
Grady C. Cothen, Jr.,
Deputy Associate Administrator for Safety Standards and Program Development.

[FR Doc. E7-15760 Filed 8-10-07; 8:45 am]

BILLING CODE 4910-06-P